DEPARTMENT OF AGRICULTURE

Food and Nutrition Service

Agency Information Collection Activities: Proposed Collection; Comment Request —Food Stamp Program, Form FNS-46, Issuance Reconciliation Report

AGENCY: Food and Nutrition Service, USDA.

ACTION: Notice.

SUMMARY: In accordance with the Paperwork Reduction Act of 1995, this notice invites the general public and other public agencies to comment on proposed information collections.

DATES: Written comments must be received on or before June 25, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including use of appropriate automated, electronic, mechanical, or other technological collection techniques or other forms of information technology.

Comments may be sent to Mandy Briggs, Chief, Electronic Benefits Transfer Branch, Benefit Redemption Division, Food and Nutrition Service, U.S. Department of Agriculture, 3101 Park Center Drive, Alexandria, VA 22302. Comments may also be submitted via fax to the attention of Mandy Briggs at (703) 305-1863 or via e-mail to BRDHQ-WEB@fns.usda.gov.

All written comments will be open for public inspection at the office of the Food and Nutrition Service during regular business hours (8:30 a.m. to 5 p.m., Monday through Friday) at 3101 Park Center Drive, Alexandria, Virginia 22302, Room 403.

All responses to this notice will be summarized and included in the request for OMB approval. All comments will be a matter of public record.

FOR FURTHER INFORMATION CONTACT: Requests for additional information or copies of this information collection should be directed to Mandy Briggs, Chief, Electronic Benefits Transfer Branch at (703) 305-2523.

SUPPLEMENTARY INFORMATION: Title: Issuance Reconciliation Report.

OMB Number: 0584-0080.

Form Number: FNS-46.

Expiration Date: December 31, 2007.

Type of Request: Revision of a currently approved collection.

Abstract: Section 7(d) of the Food Stamp Act of 1977, as amended, (the Act) (7 U.S.C.

2016(d), requires State agencies to report on their benefits issuance operations not less than monthly. Section 11(a) of the Act (7 U.S.C. 2020(a)) requires State agencies to assume responsibility for the issuance, control, and accountability of benefits.

Regulations at 7 CFR 274.4(a) and 274.4(b)(2) require State agencies to account for all issuance through the reconciliations process and to submit a report on this process using Form FNS-46, Issuance Reconciliation Report. These reports must be submitted to the Food and Nutrition Service (FNS) monthly and must reach FNS no later than 90 days following the end of each report month. The FNS-46 report reflects the total issuance, returns, and unauthorized issuance amounts resulting in the net Federal obligation.

The proposed revision to the information collection burden associated with Form FNS-46, Issuance Reconciliation Report, reflects a reduction because of the requirement in Section 7(i) of the Act, (7 U.S.C. 2016(i)) for State agencies to change from coupon to EBT systems. As States implemented their EBT systems, they generally reduced their issuance reconciliation points to a single location. Therefore, the number of respondents and responses declined as the number of States with EBT systems increased.

Respondents: State and local government employees or contractors.

Estimated Number of Respondents: 54.

Number of Responses per Respondent: 12.

Estimated Time per Response: 8 hours.

Estimated Total Annual Burden on Respondents: 5,184 hours.

Dated: April 17, 2007.
Roberto Salazar,
Administrator, Food and Nutrition Service.

[FR Doc. E7-7881 Filed 4-24-07; 8:45 am]

BILLING CODE 3410-30-P